DEPARTMENT OF COMMERCE

National Oceanic and Atmospheric Administration

[RTID 0648-XC570]

Pacific Fishery Management Council; Public Meeting

AGENCY: National Marine Fisheries Service (NMFS), National Oceanic and Atmospheric Administration (NOAA), Commerce.

ACTION: Notice of public online meeting.

SUMMARY: The Groundfish Subcommittee of the Pacific Fishery Management Council's (Pacific Council) Scientific and Statistical Committee (SSC) will hold a virtual meeting to update the Accepted Practices Guidelines for Groundfish Stock Assessments document. The SSC Groundfish Subcommittee meeting is open to the public.

DATES: The SSC Groundfish Subcommittee's online meeting will be held Monday, December 12, 2022, beginning at 1 p.m. and continuing until 5 p.m., Pacific Time or until business for the day has been completed.

ADDRESSES: The SSC Groundfish Subcommittee's meeting will be an online meeting. Specific meeting information, including directions on how to join the meeting and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@noaa.gov.

SUPPLEMENTARY INFORMATION: The purpose of the SSC Groundfish Subcommittee's meeting is to update best practices for conducting groundfish stock assessments. Recommendations of SSC Groundfish Subcommittee members will inform the Accepted Practices Guidelines for Stock Assessments in 2023 and 2024, which is a compilation of guidelines for groundfish stock assessment scientists. The updated version of the Accepted Practices Guidelines for Stock Assessments will be posted on the Pacific Council's website shortly after the meeting.

No management actions will be decided by the SSC Groundfish Subcommittee. The SSC Groundfish Subcommittee members' role will be development of recommendations for consideration by West Coast groundfish stock assessment scientists.

Although nonemergency issues not contained in the meeting agendas may be discussed, those issues may not be the subject of formal action during this meeting. Action will be restricted to those issues specifically listed in this notice and any issues arising after publication of this notice that require emergency action under Section 305(c) of the Magnuson-Stevens Fishery Conservation and Management Act, provided the public has been notified of the intent of the SSC Groundfish Subcommittee to take final action to address the emergency.

Special Accommodations

Requests for sign language interpretation or other auxiliary aids should be directed to Mr. Kris Kleinschmidt (kris.kleinschmidt@noaa.gov; (503) 820-2412) at least 10 days prior to the meeting date.

Dated: November 17, 2022.
Diane M. DeJames-Daly,
Acting Deputy Director, Office of Sustainable Fisheries, National Marine Fisheries Service.

[FR Doc. 2022-25387 Filed 11-21-22; 8:45 am]

BILLING CODE 3510-22-P